FEDERAL COMMUNICATIONS COMMISSION

47 CFR Part 73

[DA 03-2825; MM Docket No. 01-281; RM-10287]

Radio Broadcasting Services; Atlanta, Forsyth, Gray, Irwinton, Washington, Watkinsville, GA.

AGENCY: Federal Communications Commission.

ACTION: Final rule.

SUMMARY: At the request of Southern Broadcasting Companies, Inc., licensee of Station WXKT, Channel 261A, Washington, Georgia, this document reallots Channel 261A to Watkinsville, Georgia, and modifies the Station WXKT license to specify Watkinsville as the community of license. It also denies a conflicting proposal filed by New Tracks Media. See 66 FR 53192, published October 19, 2001. The reference coordinates for the Channel 261A allotment at Watkinsville, Georgia, are 33-52-19 and 83-15-19. With this action, the proceeding is terminated.

DATES: Effective October 20, 2003

FOR FURTHER INFORMATION CONTACT: Robert Hayne, Media Bureau (202) 418-2177.

SUPPLEMENTARY INFORMATION: This is a synopsis of the Commission's Report and Order in MM Docket No. 01-281, adopted September 3, 2003, and released September 5, 2003. The full text of this decision is available for inspection and copying during normal business hours in the FCC's Reference Information Center at Portals II, CY-A257, 445 12th Street, SW., Washington, DC. The complete text of this decision may also be purchased from the Commission's copy contractor, Qualex International, Portals ll, 445 12th Street, SW., Room CY-B402, Washington, DC 20554, telephone 202 863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Georgia, is amended by removing Channel 261A at Washington, and by adding Watkinsville, Channel 261A.

Federal Communications Commission.
John A. Karousos
Assistant Chief, Audio Division, Media Bureau.

[FR Doc. 03-23927 Filed 9-18-03; 8:45 am]

BILLING CODE 6712-01-P